DEPARTMENT OF COMMERCE

National Oceanic and Atmospheric Administration

Agency Information Collection Activities; Submission to the Office of Management and Budget (OMB) for Review and Approval; Comment Request; Paperwork Submissions Under the Coastal Zone Management Act Federal Consistency Requirements

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before November 14, 2022.

ADDRESSES: Interested persons are invited to submit written comments to Adrienne Thomas, NOAA PRA Officer, at NOAA.PRA@noaa.gov. Please reference OMB Control Number 0648-0411 in the subject line of your comments. Do not submit Confidential Business Information or otherwise sensitive or protected information.

FOR FURTHER INFORMATION CONTACT: Requests for additional information or specific questions related to collection activities should be directed to David Kaiser, Senior Policy Analyst, Office for Coastal Management, National Ocean Service, 246 Gregg Hall, 35 Colovos Road, Durham, NH 03824-3534, 603-862-2719 or David.Kaiser@noaa.gov.

SUPPLEMENTARY INFORMATION:

I. Abstract

This notice and request for public comment is for a request to extend a currently approved information collection made by the Office for Coastal Management within the National Ocean Service of the National Oceanic and Atmospheric Administration pursuant to the requirements of Section 307 of the Coastal Zone Management Act (16 U.S.C. 1456) and its implementing regulations at 15 CFR part 930. Information collected pursuant to these requirements is used by states to determine the consistency of proposed federal actions with the enforceable policies of State coastal management programs (CMPs), and by NOAA when deciding appeals to State objections in the exercise of the review authority that the CZMA provides.

The Coastal Zone Management Act (CZMA) creates a State-federal partnership to improve the management of the nation's coastal zone through the development of federally approved State CMPs. The CZMA provides two incentives for States to develop federally approved CMPs: (1) the National Oceanic and Atmospheric Administration (NOAA) has appropriated monies to grant to States to develop and implement State CMPs that meet statutory and regulatory criteria; and (2) the CZMA requires federal agencies, non-federal licensees, and State and local government recipients of federal assistance to conduct their activities in a manner “consistent” with the enforceable policies of NOAA-approved CMPs. The latter incentive, referred to as the “federal consistency” provision, is found at 16 U.S.C. 1456. NOAA's regulations at 15 CFR part 930 implement NOAA's responsibilities to provide procedures for the consistency provision, the procedures available for an appeal of a State's objection to a consistency certification as provided for in 16 U.S.C. 1456(c)(3)(A) and (B) and 1456(d), and changes in the appeal process created by Congressional amendments in 1990, 1996 and 2005, and found at 16 U.S.C. 1465.

Paperwork and information collection routinely occurs by State CMPs pursuant to the CZMA federal consistency review requirements. Federal agencies proposing an action that may have reasonably foreseeable effects to coastal uses or resources must provide a consistency determination to affected states. The information requirements for consistency determinations are specified at 15 CFR 930.39. Non-federal applicants for federal licenses, permits and other forms of authorization that are listed by state CMPs as subject to review, must submit a statement certifying the consistency of the proposed activity to state CMPs pursuant to 15 CFR 930.57 accompanied by the necessary data and information specified at 15 CFR 930.58. Necessary data and information includes a copy of the application for the Federal license or permit; all material relevant to the State CMP provided to the Federal agency in support of the license or permit request; a detailed description of the proposed activity, its associated facilities and coastal effects; information specifically identified in the State CMP; and an evaluation that includes findings relating to the coastal effects of the proposal and its associated facilities to the relevant enforceable policies of the State CMP. For State and local agency applicants for federal financial assistance, the application shall be forwarded to the State CMP through the intergovernmental review process established pursuant to E.O. 12372, or submitted directly to the State CMP if the federal financial assistance is listed in the State CMP as subject to review. See 15 CFR 930.94.

Information is provided to NOAA only when there is a State objection to a proposed federal license or permit, or federal financial assistance; when informal mediation is sought by a Federal agency or State; or when an applicant for a federal license or permit, or federal financial assistance appeals to the Secretary of Commerce for an override to a State CMP objection to the issuance of the authorization, or award of assistance. Last, in 1990, Congress required State CMPs to provide for public participation in their permitting processes, consistency determinations and similar decisions. See 16 U.S.C. 1455(d)(14). How the public participation requirement is met is determined by each state with NOAA approval of the participation process.

These submissions are intended to provide a reasonable, efficient, and predictable means of complying with CZMA requirements. The information will be used by coastal states with federally-approved Coastal Zone Management Programs to determine if Federal agency activities, Federal license or permit activities, and Federal assistance activities that affect a state's coastal zone are consistent with the state's coastal management program.

Information developed for and during state reviews will also be collected and considered by NOAA for appeals filed by non-federal applicants seeking an override of state CZMA objections to federal license or permit activities or Federal assistance activities.

There have been no changes to the information collection requirements, their applicability or the methods of collection since the previous Paperwork Reduction Act extension.

II. Method of Collection

Information is submitted pursuant to the procedural requirements of the CZMA and its implementing federal consistency regulations. Required information is case-specific and not submitted by form. Methods of submittal include email and mail.

III. Data

OMB Control Number: 0648-0411.

Form Number(s): None.

Type of Review: Regular submission (extension of a current information collection).

Affected Public: State, Local, or tribal government; Federal government; business or other for-profit organizations; individuals or households.

Estimated Number of Respondents: 2,334.

Estimated Time per Response: Applications, certifications, and state objection or concurrence letters, 8 hours each; state requests for review of unlisted activities, 4 hours; public notices, 1 hour; interstate listing notices, 30 hours; mediation, 2 hours; appeals to the Secretary of Commerce, 210 hours.

Estimated Total Annual Burden Hours: 35,799.

Estimated Total Annual Cost to Public: $37 in recordkeeping and reporting costs.

Respondent's Obligation: Required for the issuance of a federal license or permit, and award of federal financial assistance.

Legal Authority: 16 U.S.C. 1456.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-19998 Filed 9-14-22; 8:45 am]

BILLING CODE 3510-08-P